SOCIAL SECURITY ADMINISTRATION

Statement of Organization, Functions and Delegations of Authority

This statement amends Part S of the Statement of the Organization, Functions and Delegations of Authority which covers the Social Security Administration (SSA). This notice retitles and updates the function of the Office of the Senior Financial Executive. This notice also divides, retitles and updates the function of the Management Analysis and Audit Program Support Staff. The new material and changes are as follows:

Section S1.10 The Office of the Deputy Commissioner, Finance, Assessment and Management—(Organization)

C. The Immediate Office of the Deputy Commissioner, Finance, Assessment and Management (S1J) which includes:

Retitle 1:

1. “The SSA Senior Financial Executive (S1J-1).”

to:

1. “The Employer Wage Reporting and Relations Staff (S1J-1).”

Retitle 2:

2. “The Management Analysis and Audit Program Support Staff (S1J-3).”

to:

2. “The Audit Management and Liaison Staff (S1J-3).”

Establish:

3. The Human Resources and Program Management Staff.

Section S1.20 The Office of the Deputy Commissioner, Finance, Assessment and Management—(Functions)

Replace as second sentence of paragraph:

C. “It reviews and analyzes existing and proposed program and administrative policies and/or issues within SSA.”

Replace in its entirety:

1. The Employer Wage Reporting and Relations Staff (S1J-1) provides advice and guidance to the Deputy Commissioner for Finance, Assessment and Management relating to the development and resolution of national policy issues that impact the overall operation of SSA's AWR processes. The Employer Wage Reporting and Relations Staff directs and manages the Agency's efforts to improve Annual Wage Reporting (AWR) and wage reconciliation including the Agency's Electronic Wage Reporting (EWR) initiative. The Director serves as the principal focal point for senior executives, providing leadership that involves the Department of the Treasury, the Internal Revenue Service and other Federal agency and business community relationships for the purpose of improving the Annual Wage Reporting process and resolving AWR issues.

2. The Audit Management and Liaison Staff (S1J-3) plans and directs SSA's participation in the audit programs conducted by the U.S. Government Accounting Office (GAO), the Office of Inspector General (OIG) and other external organizations. Develops Agency position on issues presented in the audits. Reviews and evaluates audit reports and monitors and evaluates the implementation of GAO and OIG audit reports and internal survey recommendations.

Add:

3. The Human Resources and Program Management Staff provides analytical support for a wide range of Agency-wide and/or Office-wide administrative program activities related to program administration, operations and policy.

Dated: August 6, 2003.
Jo Anne B. Barnhart,
Commissioner of Social Security.

[FR Doc. 03-20531 Filed 8-12-03; 8:45 am]

BILLING CODE 4191-02-U